DEPARTMENT OF THE INTERIOR

National Park Service

[NPS-WASO-NAGPRA-NPS0040468; PPWOCRADN0-PCU00RP14.R50000]

Notice of Inventory Completion: University of Florida, Florida Museum of Natural History, Gainesville, FL

AGENCY: National Park Service, Interior.

ACTION: Notice.

SUMMARY: In accordance with the Native American Graves Protection and Repatriation Act (NAGPRA), the University of Florida, Florida Museum of Natural History (FLMNH) has completed an inventory of human remains and associated funerary objects and has determined that there is a cultural affiliation between the human remains and associated funerary objects and Indian Tribes or Native Hawaiian organizations in this notice.

DATES: Repatriation of the human remains and associated funerary objects in this notice may occur on or after August 11, 2025.

ADDRESSES: Send written requests for repatriation of the human remains and associated funerary objects in this notice to Megan Fry, University of Florida, Florida Museum of Natural History, 1659 Museum Road, Gainesville, FL 32611, email megan.fry@floridamuseum.ufl.edu.

SUPPLEMENTARY INFORMATION: This notice is published as part of the National Park Service's administrative responsibilities under NAGPRA. The determinations in this notice are the sole responsibility of the FLMNH, and additional information on the determinations in this notice, including the results of consultation, can be found in its inventory or related records. The National Park Service is not responsible for the determinations in this notice.

Abstract of Information Available

Human remains representing, at least, 11 individuals have been identified from the North Beach, Fort Pierce (8SL12) site of St. Lucie County, Florida. The collection (Acc. 4461, Cat. 99464) was donated to the Florida Museum on 9/19/1964 by Mrs. Irene Crum during the monitoring of drag line operations from a canal in St. Lucie County as part of the Mosquito Control District for Fort pierce. The original depositional context of the remains is unknown. There is one associated funerary object identified, a single cetacean rib bone fragment (unmodified). The Florida Master Site File lists the site spanning the Malabar Period (ca. 750 BC-A.D. 1750) and there are no radiocarbon dates associated with the identified individuals. The collection was previously reported to National NAGPRA in the 2003 FLMNH inventory, but the MNI was listed as three. This notice serves to update the MNI and includes previously unreported associated funerary objects.

Cultural Affiliation

Based on the information available and the results of consultation, cultural affiliation is reasonably identified by the geographical location or acquisition history of the human remains and associated funerary object described in this notice.

Determinations

The FLMNH has determined that:

• The human remains described in this notice represent the physical remains of 11 individuals of Native American ancestry.

• The one object described in this notice is reasonably believed to have been placed intentionally with or near individual human remains at the time of death or later as part of the death rite or ceremony.

• There is a connection between the human remains and associated funerary objects described in this notice and the Miccosukee Tribe of Indians; Seminole Tribe of Florida; The Muscogee (Creek) Nation; and The Seminole Nation of Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after August 11, 2025. If competing requests for repatriation are received, the FLMNH must determine the most appropriate requestor prior to repatriation. Requests for joint repatriation of the human remains and associated funerary objects are considered a single request and not competing requests. The FLMNH is responsible for sending a copy of this notice to the Indian Tribes and Native Hawaiian organizations identified in this notice.

Authority: Native American Graves Protection and Repatriation Act, 25 U.S.C. 3003, and the implementing regulations, 43 CFR 10.10.

Dated: June 25, 2025.
Melanie O'Brien,
Manager, National NAGPRA Program.

[FR Doc. 2025-12823 Filed 7-9-25; 8:45 am]

BILLING CODE 4312-52-P